DEPARTMENT OF THE TREASURY

Internal Revenue Service

Proposed Collection; Comment Request for Form 1120, Schedule B, Schedule D, Schedule G, Schedule H, Schedule M-3, Schedule N, Schedule O, and Schedule PH

AGENCY: Internal Revenue Service (IRS), Treasury.

ACTION: Notice and request for comments.

SUMMARY: The Department of the Treasury, as part of its continuing effort to reduce paperwork and respondent burden, invites the general public and other Federal agencies to take this opportunity to comment on proposed and/or continuing information collections, as required by the Paperwork Reduction Act of 1995, Public Law 104-13 (44 U.S.C. 3506(c)(2)(A)). Currently, the IRS is soliciting comments concerning Form 1120, U.S. Corp. Income Tax Return and its affiliated schedules.

DATES: Written comments should be received on or before October 19, 2009 to be assured of consideration.

ADDRESSES: Direct all written comments to R. Joseph Durbala, Internal Revenue Service, Room 6129, 1111 Constitution Avenue, NW., Washington, DC 20224.

FOR FURTHER INFORMATION CONTACT: Requests for additional information or copies of the form and instructions should be directed to Dawn Bidne at Internal Revenue Service, Room 6129, 1111 Constitution Avenue, NW., Washington, DC 20224, or at (202) 622-3933, or through the Internet at Dawn.E.Bidne@irs.gov.

SUPPLEMENTARY INFORMATION: Title: Form 1120—U.S. Corp. Income Tax Return, Schedule B—Additional Information for Schedule M-3 Filers, Schedule D—Capital Gains and Losses, Schedule G—Information of Certain Persons Owning the Corporation's Voting Stock, Schedule H—Section 280H Limitations for a Personal Service Corporation (PSC), Schedule M-3—Net Income (Loss) Reconciliation for Corporations with Total Assets of $10 Million or More, Schedule N—Foreign Operations of U.S. Corporations, Schedule O—Consent Plan and Apportionment Schedule for a Controlled Group, and Schedule PH—U.S. Personal Holding.

OMB Number: 1545-0123.

Form Number: 1120, Schedule B, Schedule D, Schedule G, Schedule H, Schedule M-3, Schedule N, Schedule O, and Schedule PH.

Abstract: Form 1120 is used by corporations to compute their taxable income and tax liability. Schedule D (Form 1120) is used by corporations to report gains and losses from the sale of capital assets. Schedule H (Form 1120) is used by personal service corporations to determine if they have met the minimum distribution requirements of section 280H. Schedule N (1120) is used by corporations that have assets in or business operations in a foreign country or a U.S. possession. Schedule O (Form 1120) will be used by corporations that are members of a controlled group to show the adoption, amendment, or termination of an apportionment plan. It will also be used to show the apportionment of taxable income, income tax, and other tax benefits for members of the controlled group. Schedule PH (Form 1120) is used by personal holding companies to figure the personal holding company tax under section 541. The IRS uses these forms to determine whether corporations have correctly computed their tax liability.

Current Actions: Schedule G has been added to this collection resulting in a burden increase of 236,250 hours. In addition, various changes have been made to other forms under this approval number which decreased the burden by 16,487,149 hours. The new burden total for this collection is 345,452,006 hours.

Type of Review: Revision of a currently approved collection.

Affected Public: Business, or other for-profit organizations and farms.

Estimated Number of Respondents: 5,775,633.

Estimated Time per Respondent: 61 hours, 22 minutes.

Estimated Total Annual Burden Hours: 354,453,006 hours.

The following paragraph applies to all of the collections of information covered by this notice:

An agency may not conduct or sponsor, and a person is not required to respond to, a collection of information unless the collection of information displays a valid OMB control number. Books or records relating to a collection of information must be retained as long as their contents may become material in the administration of any internal revenue law. Generally, tax returns and tax return information are confidential, as required by 26 U.S.C. 6103.

Request for Comments: Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Approved: August 12, 2009.
R. Joseph Durbala,
IRS Reports Clearance Officer.

[FR Doc. E9-19946 Filed 8-19-09; 8:45 am]

BILLING CODE 4830-01-P